DEPARTMENT OF THE INTERIOR

Fish and Wildlife Service

[FWS-R2-ES-2017-N177; FXES11140200000-189-FF02ENEH00]

Draft Environmental Assessment and Draft Habitat Conservation Plan; Western Travis County Public Utility Agency Raw Water Transmission Main, Travis County, Texas

AGENCY: Fish and Wildlife Service, Interior.

ACTION: Notice of availability; request for comments.

SUMMARY: We, the U.S. Fish and Wildlife Service (Service), make available the draft Western Travis County Public Utility Agency (WTCPUA) Habitat Conservation Plan, as well as the associated draft environmental assessment, for construction of a raw water pipeline in Travis County, Texas. WTCPUA has applied to the Service for an incidental take permit (ITP) under the Endangered Species Act of 1973, as amended. The requested ITP, which would be in effect for a period of 30 years, if granted, would authorize incidental take of the federally listed golden-cheeked warbler (Setophaga [=Dendroica] chrysoparia). The proposed incidental take would occur during construction of a raw water pipeline as a result of vegetation clearing, earth-moving activities, and pipeline construction and also during operation and maintenance of the pipeline. In addition, incidental take would occur as a result of the operation and maintenance of existing facilities, including the existing water pipeline, water intake, and the Uplands Water Treatment Facility.

DATES: Submission of comments: We will accept comments received or postmarked on or before June 20, 2018.

ADDRESSES:

Obtaining documents: You may obtain copies of the application, the proposed draft habitat conservation plan (HCP), the draft environmental assessment, or other related documents by going to the Service's website at http://www.fws.gov/southwest/es/AustinTexas/. Alternatively, a limited number of CD-ROM and printed copies of the draft environmental assessment and draft HCP are available, by request, from Mr. Adam Zerrenner, Austin Ecological Services Field Office, 10711 Burnet Road, Suite 200, Austin, TX 78758-4460; telephone 512-490-0057; fax 512-490-0974. Please note that your request is in reference to the WTCPUA dHCP.

The incidental take permit application is available by mail from the Regional Director, U.S. Fish and Wildlife Service, P.O. Box 1306, Room 6034, Albuquerque, NM 87103. Copies of the draft environmental assessment and draft HCP are also available for public inspection and review at the following locations, by appointment and written request only, 8 a.m. to 4:30 p.m.:

• U.S. Fish and Wildlife Service, 500 Gold Avenue SW, Room 6034, Albuquerque, NM 87102.

• U.S. Fish and Wildlife Service, 10711 Burnet Road, Suite 200, Austin, TX 78758.

Submitting Comments: You may submit written comments by one of the following methods:

• Submit electronic comments to FW2_AUES_Consult@fws.gov. Please note that your request is in reference to the WTCPUA dHCP.

• By hard copy: Mr. Adam Zerrenner, Austin Ecological Services Field Office, 10711 Burnet Road, Suite 200, Austin, TX 78758-4460; telephone 512-490-0057; fax 512-490-0974. Please note that your request is in reference to the WTCPUA dHCP.

We request that you submit comments by only the methods described above. Generally, we will post any personal information you provide us (see the Public Availability of Comments section for more information).

FOR FURTHER INFORMATION CONTACT: Adam Zerrenner, Field Supervisor, U.S. Fish and Wildlife Service, 10711 Burnet Road, Suite 200, Austin, TX 78758 or (512) 490-0057.

SUPPLEMENTARY INFORMATION: We, the U.S. Fish and Wildlife Service (Service), make available the draft environmental assessment (dEA) for the Western Travis County Public Utility Agency (WTCPUA) draft Habitat Conservation Plan (dHCP) for construction of a raw water pipeline in Travis County, Texas. WTCPUA has applied for an incidental take permit (ITP) that would be in effect for 30 years. If granted, the ITP would authorize incidental take of the golden-cheeked warbler (Setophaga [=Dendroica] chrysoparia; the “Covered Species”), which is listed as an endangered species under the Endangered Species Act of 1973, as amended (Act; 16 U.S.C. 1531 et seq.).

In accordance with the requirements of the National Environmental Policy Act of 1969 (NEPA; 42 U.S.C. 4321 et seq.), we advise the public that:

1. We have gathered the information necessary to determine impacts and formulate alternatives for the dEA related to potential issuance of an ITP to WTCPUA (the applicant); and

2. The applicant has developed a dHCP as part of the application for an ITP, which describes the measures the applicant has agreed to take to minimize and mitigate the effects of incidental take of the Covered Species to the maximum extent practicable pursuant to section 10(a)(1)(B) of the Act.

As described in the dHCP, the proposed incidental take would occur within, and adjacent to, the right-of-way of an existing water pipeline in Travis County, Texas; and would result from activities associated with otherwise lawful activities. The dEA considers the direct, indirect, and cumulative effects of implementation of the dHCP, specifically the measures that will be implemented to minimize and mitigate, to the maximum extent practicable, the impacts of the incidental take of the Covered Species.

Proposed Action

The ITP would cover incidental “take” of the Covered Species associated with construction, operation, and maintenance of a new water pipeline, as well as the operation and maintenance of an existing water pipeline within the Permit Area (the “Covered Activities”). The proposed action is the issuance of an ITP by the Service for the Covered Activities in the permit area, pursuant to section 10(a)(1)(B) of the Act.

The requested term of the permit is 30 years. To meet the requirements of a section 10(a)(1)(B) ITP, the applicant has developed and proposes to implement its dHCP, which describes the conservation measures the applicant has agreed to undertake. These measures are designed to minimize and mitigate for the impacts of the proposed incidental take of the Covered Species, to the maximum extent practicable, and ensure that incidental take will not appreciably reduce the likelihood of the survival and recovery of this species in the wild.

The applicant proposes to mitigate impacts to the Covered Species with the purchase of 28 conservation credits (acres) in an approved golden-cheeked warbler habitat conservation bank.

Alternatives

We are considering one alternative to the proposed action as part of this process: No Action. Under a No Action alternative, the Service would not issue the requested ITP and WTCPUA would either not construct the transmission main water pipeline or construct the pipeline in a manner that avoids incidental take. Therefore, the applicant would not implement the conservation measures described in the dHCP.

Public Availability of Comments

All comments we receive become part of the public record associated with this action. Requests for copies of comments will be handled in accordance with the Freedom of Information Act, NEPA, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under the authority of section 10(c) of the Act and its implementing regulations (50 CFR 17.22 and 17.32) and NEPA (42 U.S.C. 4371 et seq.) and its implementing regulations (40 CFR 1506.6).

Amy L. Lueders,
Regional Director, Southwest Region, Albuquerque, New Mexico.

[FR Doc. 2018-10797 Filed 5-18-18; 8:45 am]

BILLING CODE 4333-15-P